DEPARTMENT OF COMMERCE

Foreign-Trade Zones Board

[Order No. 1828]

Reorganization and Expansion of Foreign-Trade Zone 89 Under Alternative Site Framework, Las Vegas, NV

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Nevada Development Authority, grantee of Foreign-Trade Zone 89, submitted an application to the Board (FTZ Docket 77-2011, filed November 29, 2011) for authority to reorganize and expand under the ASF with a service area of Clark County, Nevada, within and adjacent to the Las Vegas U.S. Customs and Border Protection port of entry, FTZ 89's existing Sites 1, 3, 5, 6, 7 and 9 would be categorized as magnet sites, existing Site 8 would be categorized as a usage-driven site, Site 4 would be removed from the zone project, acreage would be reduced at Site 5 and the grantee proposes two new usage-driven sites (Sites 10 and 11);

Whereas, notice inviting public comment was given in the Federal Register (76 FR 76934, 12/09/2011) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize and expand FTZ 89 under the alternative site framework is approved, subject to the FTZ Act and the Board's regulations, including Section 400.28, to the Board's standard 2,000-acre activation limit for the overall general-purpose zone project, to a five-year ASF sunset provision for magnet sites that would terminate authority for Sites 1, 3, 5, 6, 7 and 9 if not activated by May 31, 2017, and to a three-year ASF sunset provision for usage-driven sites that would terminate authority for Sites 8, 10 and 11 if no foreign-status merchandise is admitted for a bona fide customs purpose by May 31, 2015.

Dated: Signed at Washington, DC, this 4th day of May 2012.
Ronald K. Lorentzen,
Acting Assistant Secretary of Commerce for Import Administration, Alternate Chairman Foreign-Trade Zones Board.
Andrew McGilvray,
Executive Secretary.

[FR Doc. 2012-11779 Filed 5-14-12; 8:45 am]

BILLING CODE P